DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel; Topics in Health Services Research, Aging.

Date: November 4-5, 2025.

Time: 9:00 a.m. to 6:00 p.m.

Agenda: To review and evaluate grant applications.

Address: National Institutes of Health, Rockledge II, 6701 Rockledge Drive, Bethesda, MD 20892.

Meeting Format: Virtual Meeting.

Contact Person: Maryline Laude, Ph.D., Scientific Review Officer, National Institute on Minority Health, and Health Disparities, NIH, Gateway Building, 7201 Wisconsin Avenue, Suite 525, MSC. 5465, Bethesda, MD 20892, (301) 451-9536, mlaudesharp@mail.nih.gov.

Name of Committee: Center for Scientific Review Special Emphasis Panel; HIV and AIDS Research.

Date: November 12, 2025.

Time: 10:00 a.m. to 7:00 p.m.

Agenda: To review and evaluate grant applications.

Address: National Institutes of Health, Rockledge II, 6701 Rockledge Drive, Bethesda, MD 20892.

Meeting Format: Virtual Meeting.

Contact Person: Susham Shankarrao Ingavale, Ph.D., Biologist Scientist Administrator, Scientific Review Officer, Scientific Review Program, DEA/NIAID/NIH/DHHS, 5601 Fishers Lane, MSC-9823, Rockville, MD 20892, (240) 961-1172, susham.ingavale@nih.gov.

Name of Committee: Center for Scientific Review Special Emphasis Panel; Small Business: Hematology and Cardiovascular Biology.

Date: December 3-4, 2025.

Time: 9:00 a.m. to 6:00 p.m.

Agenda: To review and evaluate grant applications.

Address: National Institutes of Health, Rockledge II, 6701 Rockledge Drive, Bethesda, MD 20892.

Meeting Format: Virtual Meeting.

Contact Person: Manoj Kumar Valiyaveettil, Ph.D., Scientific Review Officer, Office of Scientific Review/DERA, National Heart, Lung, and Blood Institute, National Institutes of Health, 6705 Rockledge Drive, Room 208-R, Bethesda, MD 20817, (301) 402-1616, manoj.valiyaveettil@nih.gov.

Name of Committee: Center for Scientific Review Special Emphasis Panel; Fellowships and Mentored Training: Kidney, Urology, and Related Disciplines.

Date: December 9, 2025.

Time: 10:00 a.m. to 5:00 p.m.

Agenda: To review and evaluate grant applications.

Address: National Institutes of Health, Rockledge II, 6701 Rockledge Drive, Bethesda, MD 20892.

Meeting Format: Virtual Meeting.

Contact Person: Ryan G Morris, Ph.D., Scientific Review Officer, Review Branch, DEA, NIDDK, National Institutes of Health, 6707 Democracy Boulevard, Room 7015, Bethesda, MD 20892, 301-594-4721, ryan.morris@nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: September 26, 2025.
Denise M. Santeufemio,
Program Analyst, Office of Federal Advisory Committee Policy.

[FR Doc. 2025-19024 Filed 9-29-25; 8:45 am]

BILLING CODE 4140-01-P